SMALL BUSINESS ADMINISTRATION

Disaster Declaration #10111 and #10112

[Pennsylvania Disaster Number PA-00001]

AGENCY: U.S. Small Business Administration.

ACTION: Amendment 1.

SUMMARY: This is an amendment of the Presidential declaration of a major disaster for the State of Pennsylvania (FEMA-1587-DR), dated 4/14/2005.

Incident: Flooding.

Incident Period: 4/2/2005 through 4/23/2005.

EFFECTIVE DATE: 4/23/2005.

Physical Loan Application Deadline Date: 6/14/2005.

EIDL Loan Application Deadline Date: 1/9/2006.

ADDRESSES: Submit completed loan applications to U.S. Small Business Administration, Disaster Area Office 1, 360 Rainbow Blvd., South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the President's major disaster declaration for Pennsylvania, dated 4/14/2005, is hereby amended to establish the incident period for this disaster as beginning 4/02/2005 and continuing through 4/23/2005.

All other information in the original declaration remains unchanged.

(Catalog of Federal Domestic Assistance Numbers 59002 and 59008.)
Herbert L. Mitchell,
Associate Administrator for Disaster Assistance.

[FR Doc. 05-9377 Filed 5-10-05; 8:45 am]

BILLING CODE 8025-01-P